NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by November 23, 2009. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

Permit Application No. 2010-018

1. Applicant: Elise Engler, 262 West 107th Street, # 5A, New York, NY 10025.

Activity for Which Permit Is Requested

Enter Antarctic Specially Protected Areas. The applicant is a participant in the U.S. Antarctic Programs Artists and Writers Program and plans to enter Cape Royds (ASPA 121), Backdoor Bay, Cape Royds (ASPA 157), and Cape Crozier (ASPA 124) to photograph contents of the historic hut and scientists working in penguin rookeries. With this photo documentation she will construct drawing of scientific equipment, clothing, living conditions and scientific experiments to allow the viewer to compare objects that provide the means of staying warm, cooking, traveling, and collecting data from the turn of the century and the “Heroic Age” of Antarctic exploration to present times.

Location

Cape Royds (ASPA 121), Backdoor Bay, Cape Royds (ASPA 157), and Cape Crozier (ASPA 124).

Dates

December 15, 2009 to February 15, 2010.

Permit Application No. 2010-020

2. Applicant: Bill J. Baker, Department of Chemistry, University of South Florida, Tampa, FL 33620.

Activity for Which Permit Is Requested

Export from the U.S.A. and Introduce into Antarctica. The applicant proposes to export from the U.S.A. HepG2-EcR cells to be used in experiments at McMurdo Station, Antarctica. The HepG2-EcR cells are specialized human liver cells with a plasmid inserted that acts as a receptor for ecdysone, a natural hormone that regulates molting in arthropods. Assays will be conducted to test naturally occurring chemical compounds from marine organisms, such as sponges and tunicates for their molting activity.

Location

Palmer Station, Anvers Island, Antarctic Peninsula.

Dates

February 15, 2010 to June 15, 2010.

Nadene G. Kennedy,
Permit Officer, Office of Polar Programs.

[FR Doc. E9-25529 Filed 10-22-09; 8:45 am]

BILLING CODE 7555-01-P